DEPARTMENT OF LABOR

Employment and Training Administration

[TA-W-53,241]

Art Leather Manufacturing Company, Inc., Elmhurst, NY; Notice of Termination of Investigation

Pursuant to section 221 of the Trade Act of 1974, as amended, an investigation was initiated on October 14, 2003 in response to a worker petition filed by a company official on behalf of workers at Art Leather Manufacturing Company, Inc., Elmhurst, New York.

The petitioner has requested that the petition be withdrawn. Consequently, further investigation would serve no purpose and the investigation has been terminated.

Signed at Washington, DC this 10th day of November, 2003.
Linda G. Poole,
Certifying Officer, Division of Trade Adjustment Assistance.

[FR Doc. 03-29951 Filed 12-1-03; 8:45 am]

BILLING CODE 4510-30-P